EQUAL EMPLOYMENT OPPORTUNITY COMMISSION

Notice of Sunshine Act Meetings

Agency Holding the Meeting: Equal Employment Opportunity Commission.

Date and Time: Friday, August 10, 2007, 10 a.m. Eastern Time.

Place: Clarence M. Mitchell, Jr., Conference Room on the ninth Floor of the EEOC Office Building, 1801 “L” Street, NW., Washington, DC 20507.

Status: Part of the meeting will be open to the public and part of the meeting will be closed.

Matters to be Considered

Open Session

1. Announcement of Notation Votes,

2. Obligation of Funds for a National Contact Center Migration Study, and

3. Obligation of Funds for a Six-Month Extension of the National Contact Center Contract.

Closed Session

Agency Adjudication and Determination on Federal Agency Discrimination Compliant Appeals.

Note: In accordance with the Sunshine Act, a part of the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings. The EEOC provides sign language interpretation at Commission meetings for the hearing impaired. Requests for other reasonable accommodations may be made by using the voice and TTY numbers listed above. Contact Person for More Information: Stephen Llewellyn, Acting Executive Officer on (202) 663-4070.

This notice issued August 1, 2007.
Stephen Llewellyn,
Acting Executive Officer, Executive Secretariat.

[FR Doc. 07-3827 Filed 8-1-07; 1:24 pm]

BILLING CODE 6570-01-M